CORPORATION FOR NATIONAL AND COMMUNITY SERVICE

45 CFR Part 2522

RIN 3045-AA46

AmeriCorps Grant Applications From Professional Corps

ACTION: Proposed rule.

SUMMARY: The Corporation for National and Community Service is proposing to amend title 45 Code of Federal Regulations, part 2522.240(b)(2)(ii), to remove the restriction on certain professional corps programs from applying through State Commissions for AmeriCorps State competitive funds. The proposed amendment would realign the regulations with the authorizing statutory language. In the Rules Section of this Federal Register, the Corporation is taking direct final action on the proposed amendment because we view the amendments as non-controversial and anticipate no adverse comments. The Corporation has provided a detailed rationale for the amendment in the direct final rule. If the Corporation receives no adverse comments, the amendment set forth in the direct final action will become effective and we will take no further action on this proposed rule. If the Corporation receives adverse comments on the amendment, we will publish a timely withdrawal in the Federal Register of the direct final rule informing the public that the direct final rule will not take effect, and we will address public comments received in a subsequent final rule based on the proposed rule. The Corporation will not institute a second comment period on the subsequent final rule. Any one interested in commenting on this document should do so at this time.

DATES: To be sure your comments are considered, they must reach the Corporation on or before April 3, 2006.

ADDRESSES: You may mail or deliver your comments to Nicola Goren, Associate General Counsel, Corporation for National and Community Service, 1201 New York Avenue NW., Room 10611, Washington, DC 20525. You may also send your comments by facsimile transmission to (202) 606-3467, or send them electronically to professionalcorpscomments@cns.gov or through the Federal government's one-stop rulemaking Web site at http://www.regulations.gov. Members of the public may review copies of all communications received on this rulemaking at the Corporation's Washington DC headquarters.

During and after the comment period, you may inspect all public comments about this rule in suite 10600, 1201 New York Avenue, NW., Washington, DC, between the hours of 9 a.m. and 4:30 p.m., Eastern Time, Monday through Friday of each week except Federal holidays.

On request, we will supply an appropriate aid, such as a reader or print magnifier, to an individual with a disability who needs assistance to review the comments or other documents in the public rulemaking record for this rule. If you want to schedule an appointment for this type of aid, please contact the person listed under FOR FURTHER INFORMATION CONTACT.

FOR FURTHER INFORMATION CONTACT: Nicola Goren, Associate General Counsel, Corporation for National and Community Service, (202) 606-6676. T.D.D. (202) 606-3472. Persons with visual impairments may request this rule in an alternative format.

SUPPLEMENTARY INFORMATION: For additional information, please see the direct final rule, which is published in the Rules section of this Federal Register.

Statutory and Executive Order Reviews

Executive Order 12866

The Corporation has determined that this proposed rule, while a significant regulatory action, is not an “economically significant” rule within the meaning of E.O. 12866 because it is not likely to result in: (1) An annual effect on the economy of $100 million or more, or an adverse and material effect on a sector of the economy, productivity, competition, jobs, the environment, public health or safety, or State, local, or tribal government or communities; (2) the creation of a serious inconsistency or interference with an action taken or planned by another agency; (3) a material alteration in the budgetary impacts of entitlement, grants, user fees, or loan programs or the rights and obligations of recipients thereof; or (4) the raising of novel legal or policy issues arising out of legal mandates, the President's priorities, or the principles set forth in E.O. 12866. As a “significant” regulatory action, this proposed rule was reviewed by the Office of Management and Budget (OMB).

Regulatory Flexibility Act

The Corporation has determined that this regulatory action, if promulgated, will not result in a significant impact on a substantial number of small entities. Therefore, the Corporation has not performed the initial regulatory flexibility analysis that is required under the Regulatory Flexibility Act (5 U.S.C. 601 et seq.) for major rules that are expected to have such results.

Other Impact Analyses

This action does not impose any new information collection burden under the provisions of the Paperwork Reduction Act, 44 U.S.C. 3501 et seq.

For purposes of Title II of the Unfunded Mandates Reform Act of 1995, 2 U.S.C. 1531-1538, as well as Executive Order 12875, this regulatory action does not contain any Federal mandate that may result in increased expenditures in either Federal, State, local, or tribal governments in the aggregate, or impose an annual burden exceeding $100 million on the private sector.

List of Subjects in 45 CFR Part 2522

Grant programs-social programs, Reporting and recordkeeping requirements, Volunteers.

For the reasons stated in the preamble, the Corporation for National and Community Service proposes to amend chapter XXV, title 45 of the Code of Federal Regulations as follows:

PART 2522—AMERICORPS PARTICIPANTS, PROGRAMS, AND APPLICANTS

1. The authority citation for part 2522 continues to read as follows:

Authority: 42 U.S.C. 12571-12595.

2. Amend § 2522.240 by revising paragraph (b)(2)(ii) to read as follows:

§ 2522.240 What financial benefits do AmeriCorps participants serving in approved AmeriCorps positions receive?

* * * * *

(b) * * *

(2) * * *

(ii) The program must be operated directly by the applicant, selected on a competitive basis by submitting an application to the Corporation, and may not be included in a State's application for AmeriCorps program funds distributed by formula under § 2521.30(a)(2) of this chapter.

* * * * *

Dated: February 24, 2006.
Frank R. Trinity,
General Counsel.

[FR Doc. E6-2935 Filed 3-1-06; 8:45 am]

BILLING CODE 6050-$$-P